ENVIRONMENTAL PROTECTION AGENCY

[FRL-9978-84—Region 9]

Public Water System Supervision Program Revision for the State of Nevada

AGENCY: Environmental Protection Agency (EPA).

ACTION: Notice of tentative approval.

SUMMARY: Notice is hereby given that the State of Nevada revised its approved Public Water System Supervision Program (PWSSP) under the federal Safe Drinking Water Act (SDWA) by adopting the Ground Water Rule, the Long Term 2 Enhanced Surface Water Treatment Rule, the Revised Total Coliform Rule, and the Stage 2 Disinfectants and Disinfection Byproducts Rule. The Environmental Protection Agency (EPA) has determined that these revisions by the State of Nevada are no less stringent than the corresponding Federal regulations and otherwise meet applicable SDWA primacy requirements. Therefore, EPA intends to approve these revisions to the State of Nevada's PWSSP.

DATES: Request for a public hearing must be received on or before July 9, 2018.

ADDRESSES: All documents relating to this determination are available for inspection between the hours of 8:30 a.m. and 4:00 p.m., Monday through Friday, except official State holidays and official Federal holidays, at the following offices: Nevada Department of Environmental Protection, Admin Office, 901 South Stewart Street, Suite 4001, Carson City, NV 89701; and United States Environmental Protection Agency, Region 9, Drinking Water Management Section, 75 Hawthorne Street (WTR-3-1), San Francisco, California 94105. Documents relating to this determination are also available online at https://ndep.nv.gov/posts/category/public-notices for inspection.

FOR FURTHER INFORMATION CONTACT: Jacob Jenzen, EPA Region 9, Drinking Water Management Section, at the address given above; telephone number: (415) 972-3570; email address: Jenzen.Jacob@epa.gov.

SUPPLEMENTARY INFORMATION:

Background

EPA approved the State of Nevada's original application for PWSSP primary enforcement authority which, following the public notice period, became effective on February 27, 1978 (43 FR 8030). EPA has approved various revisions to Nevada's primacy program since then.

Public Process

Any interested party may request a public hearing on this determination. A request for a public hearing must be submitted by July 9, 2018, to the Regional Administrator at the EPA Region 9 address shown above. Any request for a public hearing shall include the following information: 1. The name, address, and telephone number of the individual, organization, or other entity requesting a hearing; 2. A brief statement of the requesting person's interest in the Regional Administrator's determination and a brief statement of the information that the requesting person intends to submit at such hearing; and 3. The signature of the individual making the request, or, if the request is made on behalf of an organization or other entity, the signature of a responsible official of the organization or other entity. The Regional Administrator may deny frivolous or insubstantial requests for a hearing. If a valid request for a public hearing is made within the requested timeframe, a public hearing will be held and a notice of such hearing will be given in the Federal Register and a newspaper of general circulation.

If EPA Region 9 does not receive a timely and appropriate request for a hearing and the Regional Administrator does not elect to hold a hearing, this determination shall become final and effective on July 9, 2018, and no further public notice will be issued.

Authority: Section 1413 of the Safe Drinking Water Act, 42 U.S.C. 300g-2 (1996), and 40 CFR part 142 of the National Primary Drinking Water Regulations.

Dated: May 18, 2018.
Deborah Jordan,
Acting Regional Administrator, EPA, Region 9.

[FR Doc. 2018-12376 Filed 6-5-18; 4:15 pm]

BILLING CODE 6560-50-P